Title 3—

The President

Memorandum of April 6, 2010

Combating Noncompliance With Recovery Act Reporting Requirements

Memorandum for the Heads of Executive Departments and Agencies

My Administration is committed to transparency in tracking recovery dollars and to elimination of waste, fraud, and abuse by recipients of hard-earned taxpayer dollars. Executive departments and agencies (agencies) should use every means available to: (1) identify every prime recipient under an obligation to file a report on FederalReporting.gov arising from its receipt of American Reinvestment and Recovery Act of 2009 (Recovery Act) funds; and (2) to ensure that every such recipient has filed a report. Any prime recipient that has failed to report is not living up to the standards set by my Administration and must be held accountable by all agencies to the fullest extent permitted by law. Our efforts to ensure timely, comprehensive, and accurate recipient reporting must succeed if we are to effectively meet the transparency and accountability objectives of the Recovery Act.

Therefore, I hereby direct agencies to further intensify their efforts to improve reporting compliance by prime recipients of Recovery Act funds, wherever authorized and appropriate, by terminating awards; pursuing measures such as suspension and debarment; reclaiming funds; and considering, initiating, and implementing punitive actions. In addition, agencies shall intensify efforts to timely report the identities of noncompliant prime recipients to the Office of Management and Budget (OMB) and specify to the OMB the detailed actions they have taken to respond to each instance of noncompliance. The Director of the OMB shall, within 30 days of the date of this memorandum, review current OMB guidance concerning agency responsibilities for addressing noncompliance with Recovery Act reporting requirements and, where appropriate, update that guidance with actions agencies should take to carry out the requirements of this memorandum. The guidance may include additional agency actions and strategies designed to improve prime recipient reporting compliance and the potential recapture of funds from noncompliant prime recipients.

Nothing in this memorandum shall be construed to require the disclosure of classified information, law enforcement sensitive information, or other information that must be protected in the interests of national security or is otherwise protected from disclosure by law.

This memorandum is not intended to, and does not, create any right or benefit, substantive or procedural, enforceable at law or in equity by any party against the United States, its departments, agencies, or entities, its officers, employees, or agents, or any other person.

The Director of the OMB is hereby authorized and directed to publish this memorandum in the Federal Register.

THE WHITE HOUSE,

Washington, April 6, 2010

[FR Doc. 2010-8226

Filed 4-7-10; 11:15 am]

Billing code 3110-01-P